DEPARTMENT OF HEALTH AND HUMAN SERVICES

Centers for Disease Control and Prevention

Disease, Disability, and Injury Prevention and Control Special Emphasis Panel (SEP)—RFA-TS-23-001: Identify and Evaluate Potential Risk Factors for Amyotrophic Lateral Sclerosis (ALS); Amended Notice of Closed Meeting

Notice is hereby given of a change in the meeting of the

Disease, Disability, and Injury Prevention and Control Special Emphasis Panel (SEP)—RFA-TS-23-001: Identify and Evaluate Potential Risk Factors for Amyotrophic Lateral Sclerosis (ALS); April 11, 2023, 8:30 a.m.-5:30 p.m., EDT, Videoconference, in the original FRN. The meeting was published in the Federal Register on January 18, 2023, Volume 88, Number 11, page 2921.

The meeting is being amended to begin the meeting later and should read as follows:

Date: April 11, 2023.

Time: 10:00 a.m.-5:00 p.m. (EDT).

Place: Videoconference.

The meeting is closed to the public.

FOR FURTHER INFORMATION CONTACT: Carlisha Gentles, PharmD, BCPS, CDCES, Scientific Review Officer, National Center for Injury Prevention and Control, CDC, 4770 Buford Highway NE, Mailstop F-63, Atlanta, Georgia 30341, Telephone (770)488-1504, Email: CGentles@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-04699 Filed 3-7-23; 8:45 am]

BILLING CODE 4163-18-P